DEPARTMENT OF STATE

[Public Notice: 6361]

30-Day Notice of Proposed Information Collection: DS-7001 and DS-7005, DOS-Sponsored Academic Exchange Program Application, OMB Control No. 1405-0138

ACTION: Notice of request for public comment and submission to OMB of proposed collection of information.

SUMMARY: The Department of State has submitted the following information collection request to the Office of Management and Budget (OMB) for approval in accordance with the Paperwork Reduction Act of 1995.

• Title of Information Collection: DOS-sponsored Academic Exchange Program Application.

• OMB Control Number: 1405-0138.

• Type of Request: Revision of a Currently Approved Collection.

• Originating Office: Bureau of Educational and Cultural Affairs, ECA/A/E/EUR.

• Form Numbers: DS-7001, DS-7005.

• Respondents: Applicants for the Academic Exchange Program.

• Estimated Number of Respondents: 6638.

• Estimated Number of Responses: 6638.

• Average Hours per Response: 0.75.

• Total Estimated Burden: 4978 hours.

• Frequency: Annually.

• Obligation to Respond: Voluntary.

DATES: Submit comments to the Office of Management and Budget (OMB) for up to 30 days from September 15, 2008.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Carolina Chavez, U.S. Department of State, Bureau of Educational and Cultural Affairs, Room 246, 301 Fourth Street, SW., Washington, DC 20547, who may be reached on 202-453-8524 or ChavezCC@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: This collection was formerly entitled Application and Evaluation of DOS-sponsored Academic Exchange Programs. The Department of State collects this information to identify qualified candidates for the Office's academic exchange programs.

Methodology: Applications are delivered physically to the offices of the grantee organization, submitted electronically, or through the mail.

Additional Information: None.

Dated: September 8, 2008.
Thomas Farrell,
Deputy Assistant Secretary for Academic Programs, Bureau of Educational and Cultural Affairs, Department of State.

[FR Doc. E8-21475 Filed 9-12-08; 8:45 am]

BILLING CODE 4710-05-P